MILLENNIUM CHALLENGE CORPORATION

22 CFR Part 1300

Organization and Functions of the Millennium Challenge Corporation

AGENCY: Millennium Challenge Corporation.

ACTION: Interim final rule.

SUMMARY: This document establishes a new chapter in the Code of Federal Regulations for the Millennium Challenge Corporation and provides information on the Millennium Challenge Corporation's organization, functions and operations.

DATES: Effective August 28, 2007.

FOR FURTHER INFORMATION CONTACT: John C. Mantini, Assistant General Counsel for Administration.

ADDRESSES: Office of the General Counsel, Millennium Challenge Corporation, 875 Fifteenth Street, NW., Washington, DC 20005-2221.

SUPPLEMENTARY INFORMATION: The Millennium Challenge Corporation establishes a new Chapter XIII in Title 22 of the Code of Federal Regulations to read “Chapter XIII—Millennium Challenge Corporation”.

This interim final rule informs the public about the structure, function, operations, and quorum requirements of the Millennium Challenge Corporation.

Regulatory Impact

1. Administrative Procedures Act

In promulgating this rule, the Millennium Challenge Corporation finds that notice and public comment are not necessary. Section 553(b)(3)(A) of Title 5, United States Code, provides that when regulations involve matters of agency organization, procedure, or practice, the agency may publish regulations in final form. In addition, the Millennium Challenge Corporation finds, in accordance with 5 U.S.C. 553(d), that a delayed effective date is unnecessary. Accordingly, these regulations are effective upon publication.

2. Paperwork Reduction Act

This interim final rule does not contain any information collection requirements that require the approval of the Office of Management and Budget under the Paperwork Reduction Act (44 U.S.C. 3501 et seq.)

3. Unfunded Mandates Reform Act of 1995

This interim final rule does not require the preparation of an assessment statement in accordance with the Unfunded Mandates Reform Act of 1995, 2 U.S.C. 1531. This rule does not include a Federal mandate that may result in the expenditure by State, local, and tribal governments, in the aggregate, or by the private sector, of $100 million or more (adjusted annually for inflation) in any one year.

List of Subjects in 22 CFR Part 1300

Organization and functions (Government agencies).

For the reasons stated in the preamble, the Millennium Challenge Corporation establishes a new Chapter XIII, consisting of part 1300, in title 22 to read as follows:

CHAPTER XIII—MILLENNIUM CHALLENGE CORPORATION

PART 1300—ORGANIZATION AND FUNCTIONS OF THE MILLENNIUM CHALLENGE CORPORATION

Sec.
1300.1 Purpose.
1300.2 Organization.
1300.3 Functions.
1300.4 Operations.
1300.5 Quorum and voting requirements.
1300.6 Office location.

Authority: 5 U.S.C. 552, as amended.

§ 1300.1 Purpose.

This part describes the organization, functions and operation of the Millennium Challenge Corporation (MCC). MCC is a government corporation (as defined in 5 U.S.C. 103) established by the Millennium Challenge Act of 2003 (Pub. L. 108-199, 118 Stat. 211.) Information about MCC is available from its Web site, http://www.mcc.gov.

§ 1300.2 Organization.

(a) MCC's Board consists of: (1) The Secretary of State, the Secretary of the Treasury, the Administrator of the United States Agency for International Development, the United States Trade Representative; and the Chief Executive Officer of the Corporation; and (2) four other individuals with relevant international experience from the private sector; appointed by the President with the advice and consent of the Senate.

(b) MCC's staff is comprised of the following administrative units:

(1) The Office of the Chief Executive Officer;

(2) The Department of Accountability;

(3) The Department of Administration and Finance;

(4) The Department of Congressional and Public Affairs;

(5) The Department of Operations;

(6) The Department of Policy and International Relations; and

(7) The Office of the General Counsel.

§ 1300.3 Functions.

(a) MCC provides United States assistance for global development; and

(b) Provides such assistance in a manner that promotes economic growth and the elimination of extreme poverty and strengthens good governance, economic freedom, and investments in people.

§ 1300.4 Operations.

In exercising its functions, duties, and responsibilities, MCC utilizes:

(a) MCC staff, consisting of specialized offices performing specialized, administrative, legal and financial work for the Board.

(b) Rules published in the Federal Register and codified in this title of the Code of Federal Regulations.

(c) Meetings of the Board of Directors conducted pursuant to the Government in the Sunshine Act or voting by notation as provided in section 1300.5(b).

§ 1300.5 Quorum and voting requirements.

(a) Quorum requirements. A majority of the members of the Board shall constitute a quorum, which shall include at least one private sector member of the Board.

(b) Voting. The Board votes on items of business in meetings conducted pursuant to the Government in the Sunshine Act.

§ 1300.6 Office location.

The principal offices of the Millennium Challenge Corporation are located at 875 Fifteenth Street, NW., Washington, DC 20005-2221.

Dated: August 10, 2007.
William G. Anderson, Jr.,
Vice President and General Counsel, Millennium Challenge Corporation.

[FR Doc. E7-16142 Filed 8-27-07; 8:45 am]

BILLING CODE 9211-03-P